NUCLEAR REGULATORY COMMISSION

[Docket No. 50-225; NRC-2008-0277]

Rensselaer Polytechnic Institute Critical Experiments Facility; Notice of Issuance of Renewed Facility Operating License No. CX-22

The U.S. Nuclear Regulatory Commission (NRC, the Commission) has issued renewed Facility Operating License No. CX-22, held by the Rensselaer Polytechnic Institute (the licensee), which authorizes continued operation of the Rensselaer Polytechnic Institute Critical Experiments Facility (RCF), located in Schenectady, Schenectady County, New York. The RCF is a tank-type, light-water-moderated, critical facility licensed to operate at steady-state power levels up to and including 100 watts thermal power. The renewed Facility Operating License No. CX-22 will expire at midnight 20 years from its date of issuance.

The renewed facility operating license complies with the standards and requirements of the Atomic Energy Act of 1954, as amended (the Act), and the Commission's rules and regulations. The Commission has made appropriate findings as required by the Act and the NRC's regulations in Title 10 of the Code of Federal Regulations (10 CFR), and sets forth those findings in the renewed facility operating license. The agency afforded an opportunity for hearing in the Notice of Opportunity for Hearing published in the Federal Register on May 15, 2008 (73 FR 28170). The NRC received no request for a hearing or petition for leave to intervene.

The NRC staff prepared a safety evaluation report for the renewal of Facility Operating License No. CX-22 and concluded, based on that evaluation, that the licensee can continue to operate the facility without undue risk to the health and safety of the public. The NRC staff also prepared an Environmental Assessment and Finding of No Significant Impact for license renewal, noticed in the Federal Register on June 14, 2011 (76 FR 34770), and concluded that renewal of the facility operating license will not have a significant impact on the quality of the human environment.

For details with respect to the application for renewal, see the licensee's letter dated November 19, 2002 (ML023380455 and ML072210835), as supplemented on July 21 (ML082060048), July 28 (ML082190523), and September 3, 2008 (ML101260200); June 28 (ML101820298), August 31 (ML102790045), October 14 (ML103070074), and October 28, 2010 (ML103080207); and February 14 (ML110490531) and May 9, 2011 (ML11131A180). Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the NRC Web site, http://www.nrc.gov/reading-rm/adams.html. Persons who do not have access to ADAMS or who encounter problems in accessing the documents located in ADAMS should contact the NRC PDR Reference staff at 1-800-397-4209 or 301-415-4737, or send an e-mail to pdr.resource@nrc.gov.

Dated at Rockville, Maryland, this 27th day of June, 2011.
For the Nuclear Regulatory Commission.
Jessie Quichocho,
Chief, Research and Test Reactors Licensing Branch, Division of Policy and Rulemaking, Office of Nuclear Reactor Regulation.

[FR Doc. 2011-17440 Filed 7-11-11; 8:45 am]

BILLING CODE 7590-01-P